DEPARTMENT OF THE INTERIOR

Bureau of Land Management

[LLAK930000.L51010000.FP0000.LVRWL14L0740]

Notice of Availability of the Final Supplemental Environmental Impact Statement for the Alpine Satellite Development Plan for the Proposed Greater Mooses Tooth Unit Development Project, Alaska

AGENCY: Bureau of Land Management, Interior.

ACTION: Notice of Availability.

SUMMARY: The Bureau of Land Management (BLM), Alaska State Office, is issuing the Final Supplemental Environmental Impact Statement (EIS) for the Alpine Satellite Development Plan for the Proposed Greater Mooses Tooth (GMT) Unit Development Project, Alaska. Pursuant to 40 CFR 1502.9(c), the Supplemental EIS has been prepared to supplement the Alpine Satellite Development Plan (ASDP) Final EIS, dated September 2004, regarding the establishment of satellite oil production pads and associated infrastructure within the Alpine field.

DATES: The Final Supplemental EIS is available to the public. The BLM will not issue a Record of Decision (ROD) until at least 30 days after the Environmental Protection Agency's publication of a Notice of Availability of this document in the Federal Register.

ADDRESSES: Requests for information regarding the Final Supplemental EIS may be mailed to: GMT1 Supplemental EIS, Attn: Bridget Psarianos, 222 West 7th Avenue, #13 Anchorage, AK 99513-7504. The Final Supplemental EIS is available on the BLM-Alaska Web site at http://www.blm.gov/ak/gmt. CD or paper copies may be requested by calling Bridget Psarianos, BLM's project lead at 907-271-4208 or Serena Sweet, Planning Supervisor, at 907-271-4543.

FOR FURTHER INFORMATION CONTACT: Bridget Psarianos or Serena Sweet, BLM Alaska State Office, 907-271-4208 and 907-271-4543, respectively. Persons who use a telecommunications device for the deaf (TDD) may call the Federal Information Relay Service (FIRS) at 1-800-877-8339 to contact the above individuals during normal business hours. The FIRS is available 24 hours a day, seven days a week, to leave a message or question with the above individuals. You will receive a reply during normal business hours.

SUPPLEMENTARY INFORMATION: The ASDP Supplemental EIS analyzes an application by ConocoPhillips, Alaska, Inc. (CPAI) for issuance of a right-of-way grant and related authorizations to construct, operate, and maintain a drill site, access road, pipelines, and ancillary facilities to support development of petroleum resources at the Greater Mooses Tooth Unit #1 (GMT1) drill site within the National Petroleum Reserve in Alaska (NPR-A). The BLM manages the surface and subsurface at the proposed drill site and a majority of the proposed infield road and pipeline route is on BLM-managed lands. The GMT1 drill site would access subsurface minerals of the Arctic Slope Regional Corporation and the BLM. The proposed GMT1 site is approximately 14 miles west of the CPAI-operated Alpine Central Processing Facility (CD-1). The proposed drill site would be operated and maintained by Alpine staff and supported using CD-1 infrastructure.

The Supplemental EIS will result in a ROD that will approve, deny, or approve with modification, CPAI's application, as well as incorporate any additional mitigation measures that may be relevant. The Draft Supplemental EIS, published in February 2014, did not identify a Preferred Alternative, because the BLM did not have one at that time. The Final Supplemental EIS identifies Alternative B as the BLM's Preferred Alternative. The Final Supplemental EIS also includes Alternative D-2, which was not analyzed as a separate alternative in the Draft Supplemental EIS—but is qualitatively within the spectrum of alternatives considered—and analyzes impacts of a seasonal (winter-only) drilling program at GMT1.

The key issues in the Final Supplemental EIS center on oil and gas production decisions, the protection of physical, biological, and subsistence resources, and the evaluation and consideration of appropriate mitigation measures.

Authority: 40 CFR 1502.9, 40 CFR 1506.6, 43 CFR part 2880.

Bud C. Cribley,
State Director.

[FR Doc. 2014-26554 Filed 11-6-14; 8:45 am]

BILLING CODE 4310-JA-P